DEPARTMENT OF COMMERCE

International Trade Administration

[A-570-084]

Certain Quartz Surface Products From the People's Republic of China: Preliminary Determination of Sales at Less Than Fair Value and Postponement of Final Determination

AGENCY: Enforcement and Compliance, International Trade Administration, Department of Commerce.

SUMMARY: The Department of Commerce (Commerce) preliminarily determines that certain quartz surface products (QSP) from the People's Republic of China (China) are being, or are likely to be, sold in the United States at less than fair value (LTFV). The period of investigation (POI) is October 1, 2017, through March 31, 2018. Interested parties are invited to comment on this preliminary determination.

DATES: Applicable November 20, 2018.

FOR FURTHER INFORMATION CONTACT: Andrew Medley or Whitley Herndon, AD/CVD Operations, Office II, Enforcement and Compliance, International Trade Administration, U.S. Department of Commerce, 1401 Constitution Avenue NW, Washington, DC 20230; telephone: (202) 482-4987 or (202) 482-6274, respectively.

SUPPLEMENTARY INFORMATION:

Background

This preliminary determination is made in accordance with section 733(b) of the Tariff Act of 1930, as amended (the Act). Commerce published the notice of initiation of this investigation on May 16, 2018.¹ On August 28, 2018, Commerce published the postponement of the preliminary determination of this investigation, and the revised deadline is now November 13, 2018.² For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be accessed directly at http://enforcement.trade.gov/frn/. The signed and the electronic versions of the Preliminary Decision Memorandum are identical in content.

¹ See Certain Quartz Surface Products from the People's Republic of China: Initiation of Less-Than-Fair-Value Investigation, 83 FR 22613 (May 16, 2018) (Initiation Notice).

² See Certain Quartz Surface Products from the People's Republic of China: Postponement of Preliminary Determination in the Less-Than-Fair-Value Investigation, 83 FR 43848 (August 28, 2018).

³ See Memorandum, “Decision Memorandum for the Preliminary Determination in the Less-Than-Fair-Value Investigation of Certain Quartz Surface Products from the People's Republic of China,” dated concurrently with, and hereby adopted by, this notice (Preliminary Decision Memorandum).

Scope of the Investigation

The products covered by this investigation are QSP from China. For a complete description of the scope of this investigation, see Appendix I.

Scope Comments

In accordance with the preamble to Commerce's regulations,⁴ the Initiation Notice set aside a period of time for parties to raise issues regarding product coverage (scope).⁵ Certain interested parties commented on the scope of the investigation as it appeared in the Initiation Notice. For a summary of the product coverage comments and rebuttal responses submitted to the record for this investigation, and accompanying discussion and analysis of all comments timely received, see the Scope Decision Memorandum.⁶ Commerce is not preliminarily modifying the scope language as it appeared in the Initiation Notice.

⁴ See Antidumping Duties; Countervailing Duties, Final Rule, 62 FR 27296, 27323 (May 19, 1997).

⁵ See Initiation Notice.

⁶ See Memorandum, “Certain Quartz Surface Products from the People's Republic of China: Scope Comments Decision Memorandum for the Preliminary Determination” (Scope Decision Memorandum), dated September 14, 2018.

Methodology

Commerce is conducting this investigation in accordance with section 731 of the Act. Export prices was calculated in accordance with section 772(a) of the Act. Constructed export prices was calculated in accordance with section 772(b) of the Act. Because China is a non-market economy within the meaning of section 771(18) of the Act, normal value (NV) was calculated in accordance with section 773(c) of the Act.

In addition, because necessary information regarding the China-wide entity is not on the administrative record, Commerce has relied on facts available under section 776(a)(1) of the Act to determine the cash deposit rates assigned to the China-wide entity. Furthermore, pursuant to section 776(a) and (b) of the Act, because the China-wide entity did not cooperate to the best of its ability in responding to Commerce's requests for data, Commerce preliminarily has relied upon facts otherwise available, with adverse inferences, for the China-wide entity. For a full description of the methodology underlying Commerce's preliminary determination, see the Preliminary Decision Memorandum.

Preliminary Affirmative Determination of Critical Circumstances

In accordance with section 733(e) of the Act and 19 CFR 351.206, Commerce preliminarily determines that critical circumstances exist with respect to imports of QSP from China for the mandatory questionnaire respondents (i.e., CQ International,⁷ Foshan Yixin Stone Co., Ltd. (Yixin Stone), and Guangzhou Hercules Quartz Stone Co., Ltd. (Hercules Quartz)), all non-individually-examined companies receiving a separate rate, and the China-wide entity. For a full description of the methodology and results of Commerce's critical circumstances analysis, see the Preliminary Decision Memorandum.

⁷ Commerce preliminarily determines that Suzhou Colorquartzstone New Material Co., Ltd./Shanghai Meiyang Stone Co., Ltd./C Q International Limited HK are a single entity and hereafter collectively referred to as “CQ International.” See Preliminary Decision Memorandum.

Combination Rates

In the Initiation Notice,⁸ Commerce stated that it would calculate exporter/producer combination rates for the respondents that are eligible for a separate rate in this investigation. Policy Bulletin 05.1 describes this practice.⁹ For a list of the respondents that established eligibility for their own separate rates and the exporter/producer combination rates applicable to these respondents, see Appendix III.

⁸ See Initiation Notice, 83 FR at 22617.

⁹ See Enforcement and Compliance's Policy Bulletin No. 05.1, regarding, “Separate-Rates Practice and Application of Combination Rates in Antidumping Investigations involving Non-Market Economy Countries,” (April 5, 2005) (Policy Bulletin 05.1), available on Commerce's website at http://enforcement.trade.gov/policy/bull05-1.pdf.

Preliminary Determination

Commerce preliminarily determines that the following estimated weighted-average dumping margins exist:

Exporter | Producer | Estimated weighted- average dumping margin (percent) | Cash deposit rate (adjusted for subsidy offset) (percent)
Foshan Yixin Stone Co., Ltd | Foshan Yixin Stone Co., Ltd | 341.29 | 314.10
Foshan Yixin Stone Co., Ltd | QingYuan Yue Feng Decoration Material Co., Ltd | 341.29 | 314.10
Guangzhou Hercules Quartz Stone Co., Ltd | Guangzhou Hercules Quartz Stone Co., Ltd | 289.62 | 262.43
Suzhou Colorquartzstone New Material Co., Ltd., Shanghai Meiyang Stone Co., Ltd., CQ International Limited | Suzhou Colorquartzstone New Material Co., Ltd. and Shanghai Meiyang Stone Co., Ltd | 242.10 | 242.10
Non-Individually Examined Exporters Receiving Separate Rates (see Appendix III) | Producers Supplying the Non-Individually-Examined Exporters Receiving Separate Rates (see Appendix III) | 290.86 | 263.67
China-Wide Entity ¹⁰ | China-Wide Entity | 341.29 | 314.10

Suspension of Liquidation

¹⁰ Commerce preliminarily determined that Foshan Hero Stone Co., Ltd., Foshan Quartz Stone Imp & Exp Co., Ltd., Hero Stone Co., Ltd., and Vemy Quartz Surface Co., Ltd. failed to establish their eligibility for a separate rate and, therefore, preliminarily determined that these companies are part of the China-wide entity. See Preliminary Decision Memorandum.

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which NV exceeds U.S. price, and, where appropriate, adjusted for export subsidies and estimated domestic subsidy pass-through as indicated in the chart above, as follows: (1) For the producer/exporter combinations listed in the table above, the cash deposit rate is equal to the combination listed in the table; (2) for all combinations of Chinese producers/exporters of merchandise under consideration that have not established eligibility for their own separate rates, the cash deposit rate will be equal to the rate established for the China-wide entity; and (3) for all third-country exporters of merchandise under consideration not listed in the table above, the cash deposit rate is the cash deposit rate applicable to the Chinese exporter/producer combination (or the China-wide entity) that supplied that third-country exporter.

Section 733(e)(2) of the Act provides that, given an affirmative determination of critical circumstances, any suspension of liquidation shall apply to unliquidated entries of merchandise entered, or withdrawn from warehouse, for consumption on or after the later of (a) the date which is 90 days before the date on which the suspension of liquidation was first ordered, or (b) the date on which notice of initiation of the investigation was published. Commerce preliminarily finds that critical circumstances exist for imports of subject merchandise from CQ International, Yixin Stone, Hercules Quartz, all non-individually-examined companies receiving a separate rate, and the China-wide entity. In accordance with section 733(e)(2)(A) of the Act, the suspension of liquidation shall apply to all unliquidated entries of merchandise from the exporter/producer combinations identified in this paragraph that were entered, or withdrawn from warehouse, for consumption on or after the date which is 90 days before the publication of this notice.

To determine the cash deposit rate, Commerce normally adjusts the estimated weighted-average dumping margin by the amount of domestic subsidy pass-through and export subsidies determined in a companion CVD proceeding when CVD provisional measures are in effect. Accordingly, where Commerce has made a preliminary affirmative determination for domestic subsidy pass-through or export subsidies, Commerce has offset the calculated estimated weighted-average dumping margin by the appropriate rate(s). Any such adjusted rates may be found in the chart of estimated weighted-average dumping margins located in the section titled Preliminary Determination above.

Should provisional measures in the companion CVD investigation expire prior to the expiration of provisional measures in this LTFV investigation, Commerce will direct CBP to begin collecting cash deposits at a rate equal to the estimated weighted-average dumping margins calculated in this preliminary determination unadjusted for the passed-through domestic subsidies or for export subsidies at the time the CVD provisional measures expire.

These suspension of liquidation instructions will remain in effect until further notice.

Disclosure

Commerce intends to disclose to interested parties the calculations performed in connection with this preliminary determination within five days of its public announcement or, if there is no public announcement, within five days of the date of publication of this notice in accordance with 19 CFR 351.224(b).

Verification

As provided in section 782(i)(1) of the Act, Commerce intends to verify information relied upon in making its final determination.

Public Comment

Case briefs or other written comments may be submitted to the Assistant Secretary for Enforcement and Compliance no later than seven days after the date on which the final verification report is issued in this investigation, unless the Secretary alters the time limit. Rebuttal briefs, limited to issues raised in case briefs, may be submitted no later than five days after the deadline date for case briefs.¹¹ Pursuant to 19 CFR 351.309(c)(2) and (d)(2), parties who submit case briefs or rebuttal briefs in this investigation are encouraged to submit with each argument: (1) A statement of the issue; (2) a brief summary of the argument; and (3) a table of authorities.

¹¹ See 19 CFR 351.309; see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping determination be accompanied by a request for extension of provisional measures from a four-month period to a period not more than six months in duration.

In November 2018, pursuant to 19 CFR 351.210(e), Hercules Quartz and Hero Stone requested that Commerce postpone the final determination and that provisional measures be extended to a period not to exceed six months.¹² In accordance with section 735(a)(2)(A) of the Act and 19 CFR 351.210(b)(2)(ii), because (1) the preliminary determination is affirmative; (2) the requesting exporters account for a significant proportion of exports of the subject merchandise; and (3) no compelling reasons for denial exist, Commerce is postponing the final determination and extending the provisional measures from a four-month period to a period not greater than six months. Accordingly, Commerce intends to issue its final determination no later than 135 days after the date of publication of this preliminary determination.

¹² See Hercules Quartz's Letter, “Certain Quartz Surface Products from the People's Republic of China: Request to Postpone the Final Determination of the Investigation,” dated November 6, 2018; and Hero Stone's Letter, “Quartz Surface Products from the People's Republic of China: Request to Postpone the Final Determination of the Investigation,” dated November 9, 2018.

International Trade Commission Notification

In accordance with section 733(f) of the Act, Commerce will notify the International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: November 13, 2018.
Gary Taverman,
Deputy Assistant Secretary for Antidumping and Countervailing Duty Operations, performing the non-exclusive functions and duties of the Assistant Secretary for Enforcement and Compliance.

Appendix I

Scope of the Investigation

The merchandise covered by the investigation is certain quartz surface products.¹³ Quartz surface products consist of slabs and other surfaces created from a mixture of materials that includes predominately silica (e.g., quartz, quartz powder, cristobalite) as well as a resin binder (e.g., an unsaturated polyester). The incorporation of other materials, including, but not limited to, pigments, cement, or other additives does not remove the merchandise from the scope of the investigation. However, the scope of the investigation only includes products where the silica content is greater than any other single material, by actual weight. Quartz surface products are typically sold as rectangular slabs with a total surface area of approximately 45 to 60 square feet and a nominal thickness of one, two, or three centimeters. However, the scope of this investigation includes surface products of all other sizes, thicknesses, and shapes. In addition to slabs, the scope of this investigation includes, but is not limited to, other surfaces such as countertops, backsplashes, vanity tops, bar tops, work tops, tabletops, flooring, wall facing, shower surrounds, fire place surrounds, mantels, and tiles. Certain quartz surface products are covered by the investigation whether polished or unpolished, cut or uncut, fabricated or not fabricated, cured or uncured, edged or not edged, finished or unfinished, thermoformed or not thermoformed, packaged or unpackaged, and regardless of the type of surface finish.

¹³ Quartz surface products may also generally be referred to as engineered stone or quartz, artificial stone or quartz, agglomerated stone or quartz, synthetic stone or quartz, processed stone or quartz, manufactured stone or quartz, and Bretonstone®.

In addition, quartz surface products are covered by the investigation whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of the investigation if performed in the country of manufacture of the quartz surface products.

The scope of the investigation does not cover quarried stone surface products, such as granite, marble, soapstone, or quartzite. Specifically excluded from the scope of the investigation are crushed glass surface products. Crushed glass surface products are surface products in which the crushed glass content is greater than any other single material, by actual weight.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080. The HTSUS subheadings set forth above are provided for convenience and U.S. Customs purposes only. The written description of the scope is dispositive.

Appendix II

List of Topics Discussed in the Preliminary Decision Memorandum

I. Summary

II. Background

III. Determination Not to Select Hirsch Glass as a Voluntary Respondent

IV. Period of Investigation

V. Scope Comments

VI. Discussion of the Methodology

A. Non-Market Economy Country

B. Surrogate Country

C. Separate Rates

D. Separate Rate Recipients

E. Companies Not Receiving a Separate Rate

F. Margin for the Separate Rate Companies

G. Combination Rates

H. The China-Wide Entity

I. Application of Facts Available and Adverse Inferences

J. Critical Circumstances

K. Date of Sale

L. Fair Value Comparisons

M. Export Price and Constructed Export Price

N. Normal Value

O. Comparisons to Normal Value

VII. Currency Conversion

VIII. Adjustment Under Section 777(A)(F) of the Act

IX. Adjustments to Cash Deposit Rates for Export Subsidies

X. Verification

XI. Conclusion

Appendix III

List of Separate Rate Companies
Exporter: Non-individually examined exporters receiving separate rates | Producer: Producers supplying the non-individually-examined exporters receiving separate rates
Anhui Youlisi Quartz Building Materials Co., Ltd d.b.a. Anhui Uviistone Quartz Building Material Co., Ltd | Anhui Youlisi Quartz Building Materials Co., Ltd d.b.a. Anhui Uviistone Quartz Building Material Co., Ltd.
Ansen Investment And Development Co., Limited | Yunfu Honghai Stone Co., Ltd.
Ansen Investment And Development Co., Limited | Foshan Adamant Science & Technology Co., Ltd.
Ansen Investment And Development Co., Limited | Heshan City Nande Stone Co., Ltd.
Ansen Investment And Development Co., Limited | Dongguan Lafite Quartz-Stone Co., Ltd.
Ansen Investment And Development Co., Limited | Foshan Shunde O'Riordan Building Materials Manufacture Co., Ltd.
Aurea Stone Solutions Inc | Jiangxi Fasa Industrial Corporation Limited.
Best Bath & Kitchen Co., Limited | Fujian Province Kaisida Quartz Co., Ltd.
Best Cheer (Xiamen) Stone Works Co., Ltd | Best Cheer (Xiamen) Stone Works Co., Ltd.
Best Cheer (Xiamen) Stone Works Co., Ltd | Quanzhou Best Cheer Industry Co., Ltd.
Bestone High Tech Materials Co., Limited | Bestone High Tech Materials Co., Limited.
Bestone High Tech Materials Co., Limited | GuangDong Bosun Quartz Stone Co., Ltd.
Bestone High Tech Materials Co., Limited | Heshan Biyu Stone Co., Ltd.
Bestview (Fuzhou) Import & Export Co. Ltd | Dongguan Lafite Quartz Stone Co., Ltd.
Bestview (Fuzhou) Import & Export Co. Ltd | Nanan Fute Stone Co., Ltd.
Bestview (Fuzhou) Import & Export Co. Ltd | Foshan City Lewistone New Material Co., Limited.
Bestview (Fuzhou) Import & Export Co. Ltd | Yifeng Industries Corporation Co., Ltd.
Deyuan Panmin International Limited | Fujian Panmin Co., Ltd.
DH Group Co., Limited d.b.a. Xiamen DH Stone Co., Limited | DH Group Co., Limited.
DH Group Co., Limited d.b.a. Xiamen DH Stone Co., Limited | Nan An Zheng Shun Building Material Co., Ltd.
DH Group Co., Limited d.b.a. Xiamen DH Stone Co., Limited | Nan An Ju Jiu Building Materials Co., Ltd.
DH Group Co., Limited d.b.a. Xiamen DH Stone Co., Limited | Whitley New Material Co., Ltd.
East Asia Limited | Heshan City Nande Co., Ltd.
East Asia Limited | Vemy Quartz Surface Co., Ltd.
East Asia Limited | Lanling Jinzhao New Material Co., Ltd.
East Asia Limited | Rong Hua Fu Quartz Co., Ltd.
East Asia Limited | Runtai Stone Co., Ltd.
Elite Industry International Group Limited | Heshan Biyu Stone Industry Co., Ltd.
Enming Art Stone Co., Ltd | Thinking Industries Corporation Limited.
Ersten Surfaces Limited | Huizhou Zhongbo Engineering Stone Co., Ltd.
Ersten Surfaces Limited | Guangdong Xiongjie Building Materials Co., Ltd.
Farfield Trade Co., Ltd | Ronghuafu Yunfu Stone Co., Ltd.
Farfield Trade Co., Ltd | Yunfu Meiao Stone Co., Ltd.
Foshan Adamant Science & Technology Co., Ltd | Foshan Adamant Science & Technology Co., Ltd.
Foshan Biyu Stone Co., Limited | Foshan City Gaoming Biyustone Co., Ltd.
Foshan Biyu Stone Co., Limited | Foshan City Gaoming Biyu New Materials Co., Ltd.
Foshan Bluesea Quartz Stone Co., Ltd | Foshan Bluesea Quartz Stone Co., Ltd.
Heshan Nande Stone Industry Co., Ltd | Heshan Nande Stone Industry Co., Ltd.
Foshan Evergreen Import and Export Co., Ltd | Foshan Yixin Stone Co., Ltd.
Foshan Leda Building Materials Co., Ltd | Foshan Leda Building Materials Co., Ltd.
Foshan Leda Building Materials Co., Ltd | Hengyang Athena Quartz Stone Co., Ltd.
Foshan Monica Quartz Stone Co., Ltd | Foshan Monica Quartz Stone Co., Ltd.
Foshan Nanhai Cuipo Artificial Quartz Co., Ltd | Yunfu Stone Solutions Co., Ltd.
Foshan Nanhai Cuipo Artificial Quartz Co., Ltd | Qingyuan Yuefeng Decoration Materials Co., Ltd.
Foshan Nanhai Cuipo Artificial Quartz Co., Ltd | Yunfu Xiangyun Stone Co., Ltd.
Foshan Nanhai Cuipo Artificial Quartz Co., Ltd | Yunfu Ronghuafu Stone Co., Ltd.
Foshan Nanhai Cuipo Artificial Quartz Co., Ltd | Heshan City Nande Stone Co., Ltd.
Foshan Nanhai Cuipo Artificial Quartz Co., Ltd | Yunfu Wayon Stone Co., Ltd.
Foshan Opalus Stone Co., Ltd | Foshan Oubo Stone Co., Ltd.
Foshan Opaly Composite Materials Co., Ltd | Foshan Opaly Composite Materials Co., Ltd.
Foshan Rongguan Glass Material For Building Co., Ltd | Foshan Rongguan Glass Material For Building Co., Ltd.
Foshan Sanshui Queen Ceramic Inc | Foshan Sanshui Queen Ceramic Inc.
Foshan Shunde O'Riordan Building Materials Manufacture Co., Ltd | Foshan Shunde O'Riordan Building Materials Manufacture Co., Ltd.
Free Trans International Trading Limited | Foshan Xianghai Quartz Stone Co., Ltd.
Free Trans International Trading Limited | Foshan Tianci Quartz Stone Co., Ltd.
Fujian Nan'an Zuci Building Material Co., Ltd | Fujian Nan'an Zuci Building Material Co., Ltd.
Fujian Nan'an Zuci Building Material Co., Ltd | Shanghai Yijin Decorating Materials Co., Ltd.
Fujian Pengxiang Industrial Co., Ltd | Fujian Pengxiang Industrial Co., Ltd.
Fujian Putian Wangzhong New Type Building Materials Co., Ltd | Fujian Putian Wangzhong New Type Building Materials Co., Ltd.
Fujian Quanzhou Risheng Stone Co., Ltd | Fujian Quanzhou Risheng Stone Co., Ltd.
Fuzhou CBM Imp. And Exp. Co., Ltd | Fujian Nan'an Zuci Building Material Co., Ltd.
Fuzhou CBM Imp. And Exp. Co., Ltd | Dongguan Lafite Quartz-Stone Co., Ltd.
Golden Dragon Stone Co., Limited | Foshan Rongguan Glass Material For Building Co., Ltd.
Golden Dragon Stone Co., Limited | One Stone Quartz Co., Ltd.
Guangdong Bitto New Material Technologies Co., Ltd | Guangdong Bitto New Material Technologies Co., Ltd.
Guangdong Bosun Quartz Stone Co., Ltd | Guangdong Bosun Quartz Stone Co., Ltd.
Guangdong Overland Ceramics Co., Ltd | Guangdong Overland Ceramics Co., Ltd.
Guangdong Zhongxun New Material Co., Ltd | Guangdong Zhongxun New Material Co., Ltd.
Guangzhou Gelandy New Material Co., Ltd | Guangzhou Gelandy New Material Co., Ltd.
Guangzhou Wei Sheng Stone Building Materials Co., Ltd | Huizhou Zhongbo Engineering Stone Co., Ltd.
HCH Industrial Co., Ltd d.b.a., Shenzhen Hengchang hao Industrial | J W Quartz Co., Ltd.
HCH Industrial Co., Ltd d.b.a., Shenzhen Hengchang hao Industrial | He Shan Biyu Stone Co., Ltd.
HCH Industrial Co., Ltd d.b.a., Shenzhen Hengchang hao Industrial | Dongguan kaisa stone Co., Ltd.
HCH Industrial Co., Ltd d.b.a., Shenzhen Hengchang hao Industrial | Vemy Quartz Surfaces Co., Ltd.
HCH Industrial Co., Ltd d.b.a., Shenzhen Hengchang hao Industrial | Heng Jia Stone.
HCH Industrial Co., Ltd d.b.a., Shenzhen Hengchang hao Industrial | Hubei Guantai Building Materials Co., Ltd.
HCH Industrial Co., Ltd d.b.a., Shenzhen Hengchang hao Industrial | Dongguan Huaxiang Stone Co., Ltd.
HCH Industrial Co., Ltd d.b.a., Shenzhen Hengchang hao Industrial | Guangzhou Hercules Quartz Stone Co., Ltd.
Heshan Biyu Stone Company | Heshan Biyu Stone Company.
Hirsch Glass (Dalian) Co., Ltd | Hirsch Glass (Dalian) Co., Ltd.
Hirsch Glass (Dalian) Co., Ltd | Foshan Yixin Stone Co., Ltd.
HongKong FS Development Limited | Yunfu Chuangyun New Meterail Co., Ltd.
HongKong FS Development Limited | RONGHUAFU Yunfu Stone Co., Ltd.
Huahe Stone (Yunfu) Co., Ltd | Huahe Stone (Yunfu) Co., Ltd.
Huidong Hexingtai Industry Co., Ltd | Huidong Hexingtai Industry Co., Ltd.
Intec Stone (Xiamen) Ltd | Intec Stone (Xiamen) Ltd.
Jiangxi Jingwei Stone Co., Ltd, d.b.a. Jiangxi Jingwei Stone Material Ltd | Jiangxi Jingwei Stone Co., Ltd, d.b.a. Jiangxi Jingwei Stone Material Ltd.
Kaistar (Xiamen) Co., Ltd | Fujian Best Matrix Quartz Co., Ltd.
Kaistar (Xiamen) Co., Ltd | Kinstone (Jieyang) Stone Co., Ltd.
Kaistar (Xiamen) Co., Ltd | Jieyang Bai Sheng Stone Limited.
KBI Construction Materials Ltd | YUNFU HongHai Stone Co., Ltd.
KBI Construction Materials Ltd | Guangdong Si Hui YuLong Stone Co., Ltd.
KBI Construction Materials Ltd | Foshan Vemy Building Material Co., Ltd.
KBI Construction Materials Ltd | Foshan Adamant Science & Technology Co., Ltd.
KBI Construction Materials Ltd | Yun Fu Xiang Yun Stone Co., Ltd.
Landmark Surface Company Limited | Guangdong Lai Ma Ke Environmental Building Materials Company Limited.
Landmark Surface Company Limited | Foshan Gaoming Dexing Quartz Stone Co., Ltd.
Lanling Jinzhao New Material Co., Ltd | Lanling Jinzhao New Material Co., Ltd.
Lindberg Stone Co., Limited | Dongguan City Lafite Quartz-Stone Co., Ltd.
Lixin Stone Co., Limited | Heshan City Nande Stone Co., Ltd.
Lixin Stone Co., Limited | Guangdong Dexing Quartz Stone Co., Ltd.
Lixin Stone Co., Limited | Guangzhou Hercules Quartz Stone Co., Ltd.
Lixin Stone Co., Limited | Foshan Adamant Science & Technology Co., Ltd.
Lixin Stone Co., Limited | Vemy Building Materials Co., Ltd.
Lixin Stone Co., Limited | Yunfu Honghai Stone Co., Ltd.
Lixin Stone Co., Limited | Dongguan Lefei New Stone Materials Co., Ltd.
Lixin Stone Co., Limited | Dongguan Lafite Quartz-stone Co., Ltd.
Lixin Stone Co., Limited | Huahe Stone (Yunfu) Co., Ltd.
Lixin Stone Co., Limited | Guangdong BOSUN Quartz Stone Co., Ltd.
Lixin Stone Co., Limited | Foshan Nanhai Yachang Building Materials Products Co., Ltd.
Loyalty Enterprise Development (Xinyang) Co., Ltd | Loyalty Enterprise Development (Xinyang) Co., Ltd.
Lulong Ruitong Trading Co., Ltd | Lulong Ruitong Trading Co., Ltd.
Macostone International Industry Co., Limited | Qingyuan Yuefeng Decoration Materials Co., Ltd.
Macostone International Industry Co., Limited | Lanling Modern Materials Co., Ltd.
Monica Surfaces Company Limited | Foshan Monica Quartz Stone Co., Ltd.
Nan'an Guangtaixiang Stone Co., Ltd | Nan'an Guangtaixiang Stone Co., Ltd.
Nanchang Montary Industrial Co., Ltd | Yunfu Kimria Quarts Stone Co., Ltd.
Nanchang Montary Industrial Co., Ltd | Yunfu Montary Stone Co., Ltd.
New Powerstone Industry Co., Limited | Qing Yuan Yuefeng Quartz Stone Co., Ltd.
New Powerstone Industry Co., Limited | Shandong Whitley New Materials Co., Ltd.
New Powerstone Industry Co., Limited | Foshan Devialef New Materials Co., Ltd.
New Powerstone Industry Co., Limited | Yunan Guanglai Stone Co., Ltd.
New Powerstone Industry Co., Limited | Nanan Guangtaixiang Stone Co., Ltd.
Newstar (Quanzhou) Industrial Co., Ltd | Quanzhou Yifeng Industries Corporation.
One Stone Quartz Co., Ltd | Wuzhou Yuanhong Building Materials Product Co., Ltd.
Penglai Huasheng Electronic Co., Ltd | Shandong Sunfull Industrial Co., Ltd.
Po Nice International Trading Limited | Xinyun Stone (Yunfu) Co., Ltd.
Po Nice International Trading Limited | Guangzhou Hercules Quartz Stone Co., Ltd.
Po Nice International Trading Limited | Ronghuafu Yunfu Stone Co., Ltd.
Po Nice International Trading Limited | Henan Namei Quartz Stone Technology Co., Ltd.
Po Nice International Trading Limited | Lanling Jinzhao New Material Co., Ltd.
Po Nice International Trading Limited | Foshan Opalus Quartz Stone Co., Ltd.
Po Nice International Trading Limited | Zhejiang Tiancheng Stone Enterprise Co., Ltd.
Po Nice International Trading Limited | Zhejiang Sanxing Cheng Yuan Energy Science and Technology Co., Ltd.
Po Nice International Trading Limited | LESSO Technology Industry (Chengdu) Co., Ltd.
Qinhuangdao Jingwei Stone Co., Ltd | Qinhuangdao Jingwei Stone Co., Ltd.
Quanzhou Franco Trade Co., Ltd | Fujian Pengxiang Industrial Co., Ltd.
Quanzhou Xinxing Stone Technics Co., Ltd | Quanzhou Xinxing Stone Technics Co., Ltd.
Quanzhou Yifeng Co., Ltd. (AKA Quanzhou Yifeng Industries Corporation) | Quanzhou Yifeng Co., Ltd. (AKA Quanzhou Yifeng Industries Corporation).
Ronghuafu Yunfu Stone Co., Ltd | Ronghuafu Yunfu Stone Co., Ltd.
Shanghai Rightime International Trading Co., Ltd | Fujian Quanzhou Risheng Stone Co., Ltd.
Shunsen Industries Corporation | Shunsen Industries Corporation.
Shunsen Industries Corporation | Thinking Industries Corporation.
Sinostone (Guangdong) Co., Ltd | Sinostone (Guangdong) Co., Ltd.
Stone Solutions Co., Ltd | Stone Solutions Co., Ltd.
Sunjoin Imp. & Exp. (Xiamen) Co., Limited | Henan Namei Quartz Stone Technology Co., Ltd.
Sunjoin Imp. & Exp. (Xiamen) Co., Limited | Thinking Industries Cooperation Limited.
Sunjoin Imp. & Exp. (Xiamen) Co., Limited | Nan'an Hanwa New Building Material Co. Ltd.
Sunjoin Imp. & Exp. (Xiamen) Co., Limited | Quanzhou Yifeng Industries Corporation.
Teltos Quartz Stone Co., Ltd | Teltos Quartz Stone Co., Ltd.
Vquartz Stone Limited | Vquartz Stone Limited.
Wanfeng Compound Stone Technology Co., Ltd | Wanfeng Compound Stone Technology Co., Ltd.
Wanfu Building Materials Products Co., Ltd. Nanan Fujian | Wanfu Building Materials Products Co., Ltd. Nanan Fujian.
Wuxi Yushea Furniture Co., Ltd | Yunfu Zhengfang Stone Company.
Xiamen Ally Group Co., Ltd | Thinking Industries Corporation Limited.
Xiamen Ally Group Co., Ltd | Nanan Fute Stone Co., Ltd.
Xiamen Avanti Stone Industrial Co., Ltd | Foshan Xinyixin Stone Industry Co., Ltd.
Xiamen Best Cheer Industry Co., Ltd | Xiamen Best Cheer Industry Co., Ltd.
Xiamen Best Cheer Industry Co., Ltd | Quanzhou Best Cheer Industry Co., Ltd.
Xiamen City Yadilong Imp & Exp. Co., Ltd | Quanzhou Yifeng Co., Ltd.
Xiamen City Yadilong Imp & Exp. Co., Ltd | Xiamen Orienti New Building Materials Ltd.
Xiamen Deyuan Panmin Trading Co., Ltd | Fujian Panmin Co., Ltd.
Xiamen Duojia Stone Material Co., Ltd. d.b.a. Xiamen Multi-Family Stone Co., Ltd | Foshan Yixin Stone Co., Ltd.
Xiamen Duojia Stone Material Co., Ltd. d.b.a. Xiamen Multi-Family Stone Co., Ltd | Foshan Blue Sea Quartz Stone Co., Ltd.
Xiamen Duojia Stone Material Co., Ltd. d.b.a. Xiamen Multi-Family Stone Co., Ltd | Foshan Ronguan Glass Material For Building Co., Ltd.
Xiamen Duojia Stone Material Co., Ltd. d.b.a. Xiamen Multi-Family Stone Co., Ltd | One Stone Quartz Co., Ltd.
Xiamen Duojia Stone Material Co., Ltd. d.b.a. Xiamen Multi-Family Stone Co., Ltd | Quanzhou Yifeng Co., Ltd.
Xiamen Duojia Stone Material Co., Ltd. d.b.a. Xiamen Multi-Family Stone Co., Ltd | Xiamen Orienti New Building Materials Ltd.
Xiamen Duojia Stone Material Co., Ltd. d.b.a. Xiamen Multi-Family Stone Co., Ltd | Fujian Panmin Xincai Ltd Co.
Xiamen Duojia Stone Material Co., Ltd. d.b.a. Xiamen Multi-Family Stone Co., Ltd | Fujian Nan'an Zuci Building Material Co., Ltd.
Xiamen Enrich Co., Ltd | Dongguan Lafite Quartz-Stone Co., Ltd.
Xiamen Enrich Co., Ltd | Quanzhou Yifeng Industries Corporation.
Xiamen Fortua (Hong Kong) Industry Co., Limited | Xiamen Fortua Industry & Trade Co., Ltd.
Xiamen Further Star Imp and Exp Co., Ltd | Quanzhou Yifeng Industries Corporation.
Xiamen Gofor Stone Co., Ltd | Huayao Stone Slab Factory.
Xiamen Good Time Stone Co., Ltd | One Stone Quartz Co., Ltd.
Xiamen Good Time Stone Co., Ltd | Lanling Jinzhao New Material Co., Ltd.
Xiamen Good Time Stone Co., Ltd | Thinking Industries Corporation Limited.
Xiamen Good Time Stone Co., Ltd | Xiamen Deyuan Panmin Trading Co., Ltd.
Xiamen Good Time Stone Co., Ltd | Quanzhou Yifeng Industries Corporation.
Xiamen Got Cheer Trading Co., Ltd d.b.a. Xiamen Got Cheer Co., Ltd | Quanzhou Best Cheer Industry Co., Ltd.
Xiamen Got Cheer Trading Co., Ltd d.b.a. Xiamen Got Cheer Co., Ltd | Xiamen Best Cheer Industry Co., Ltd.
Xiamen Got Cheer Trading Co., Ltd d.b.a. Xiamen Got Cheer Co., Ltd | Best Cheer (Xiamen) Stone Works Co., Ltd.
Xiamen Honglei Imp. &. Exp. Co., Ltd. d.b.a. Honglei (Xiamen) Stone Co., Ltd | Xiamen Honglei Imp. &. Exp. Co., Ltd. d.b.a. Honglei (Xiamen) Stone Co., Ltd.
Xiamen Injoy Import & Export Co., Ltd | Thinking Industries Corporation.
Xiamen Interock Stone Co., Ltd | Loyalty Enterprise Development (XinYang) Co., Ltd.
Xiamen Interock Stone Co., Ltd | Fujian Nan'an Zuci Building Material Co., Ltd.
Xiamen Jianming Rising Import & Export Co., Ltd | Thinking Industries Corporation.
Xiamen Jianming Rising Import & Export Co., Ltd | Nan'an Hanhua New Building Materials Co., Ltd.
Xiamen Luck Stone Co., Ltd | Foshan Opaly Composites Co., Ltd.
Xiamen Luck Stone Co., Ltd | Foshan Yixin Stone Co., Ltd.
Xiamen Luck Stone Co., Ltd | Heshan Biyu Stone Co., Ltd.
Xiamen Luck Stone Co., Ltd | Shandong Whitley New Materials Co., Ltd.
Xiamen Luck Stone Co., Ltd | Vemy Building Materials Co., Ltd.
Xiamen Maoshuang Stone Industry Co., Ltd | Fujian Panmin Quartz Co., Ltd.
Xiamen Northern Mining Stone Co., Ltd | Fujian Nanan Xietai Stone Co., Ltd.
Xiamen Northern Mining Stone Co., Ltd | Fujian Nanan Mao Tong Yuan Stone Co., Ltd.
Xiamen Northern Mining Stone Co., Ltd | Fujian Nanan Run Ze Stone Co., Ltd.
Xiamen Northern Mining Stone Co., Ltd | Shandong Horizon Group Co., Ltd.
Xiamen Northern Mining Stone Co., Ltd | Lanling Jinzhao New Material Co., Ltd.
Xiamen Northern Mining Stone Co., Ltd | Fujian Panmin Quartz Co., Ltd.
Xiamen Ogrand Stone Imp. & Exp. Co., Ltd | Quanzhou Yifeng Co., Ltd Nanan Branch.
Xiamen Oriental Stone Products Co., Ltd | Nanan City Shijing Town Stone Products Factory.
Xiamen Oriental Stone Products Co., Ltd | Fujian Nanan Lianhui Stone Products Co., Ltd.
Xiamen Orienti New Building Materials Ltd | Xiamen Orienti New Building Materials Ltd.
Xiamen Qinhui Import & Export Co., Ltd | Zhangzhou Qinhui Quartz Stone Co., Ltd.
Xiamen Qinhui Import & Export Co., Ltd | Fujian Quanzhou Qinhui Stone Co., Ltd.
Xiamen Realho Stone Co., Ltd | Thinking Industries Corporation.
Xiamen Realho Stone Co., Ltd | Shandong Whitley New Materials Co., Ltd.
Xiamen Realho Stone Co., Ltd | Quanzhou Yifeng Co., Ltd.
Xiamen Realho Stone Co., Ltd | Nan'an Fute Building Material Co., Ltd.
Xiamen Shihui Stone Product Co., Ltd | Guangdong Baoxin New Stone Products Co., Ltd.
Xiamen Shihui Stone Product Co., Ltd | Yunfu Honghai Investment Co., Ltd.
Xiamen Sinocau Import & Export Co., Ltd | Jinjiang Huabao Stone Co., Ltd.
Xiamen Smarter Stone Co., Ltd | Heshan Nande Quartz Stone Co., Ltd.
Xiamen Smarter Stone Co., Ltd | Fujian Quanzhou Runze Stone Co., Ltd.
Xiamen Smarter Stone Co., Ltd | Hongsheng Stone Co., Ltd.
Xiamen Stone Forest Co., Ltd | Quanzhou Yifeng Industries Corporation.
Xiamen Stone Forest Co., Ltd | Foshan Vemy Stone Building Material Co., Ltd.
Xiamen Stone Forest Co., Ltd | Foshan Rongguan Glass Material For Building Co., Ltd.
Xiamen Stone Forest Co., Ltd | Qingyuan Yuefeng Decoration Materials Co., Ltd.
Xiamen Stone Forest Co., Ltd | Lanling Jinzhao New Material Co., Ltd.
Xiamen Stone Forest Co., Ltd | Foshan Yixin Stone Co., Ltd.
Xiamen Stone Forest Co., Ltd | Xiamen Orienti New Building Materials, Ltd.
Xiamen Stone Forest Co., Ltd | Dongguan Lafite Quartz-Stone Co., Ltd.
Xiamen Stone Forest Co., Ltd | Dongguan City Hongke Quartz Stone Co., Ltd.
Xiamen Stone Harbour Co., Ltd | Fujian PengXiang Industrial Co., Ltd.
Xiamen Stone Harbour Co., Ltd | Zhangzhou QinHui Quartz Co., Ltd.
Xiamen Stonelink Imp & Exp Co., Ltd | Fujian PengXiang Industrial Co., Ltd.
Xiamen Stonelink Imp & Exp Co., Ltd | Heshan Biyu Stone Co., Ltd.
Xiamen Stonevic Co., Ltd | Heshan Biyu Stone Co., Ltd.
Xiamen Stonevic Co., Ltd | Quanzhou Yifeng Industries Co., Ltd.
Xiamen Sun Young Corporation | Yifeng Industries Corporation.
Xiamen Sun Young Corporation | Heshan City Nande Stone Co., Ltd.
Xiamen Sun Young Corporation | Benyi New Materials Co., Ltd.
Xiamen Sun Young Corporation | Fujian Quanzhou Risheng Stone Co., Ltd.
Xiamen Sun Young Corporation | Nanan Chunjia Stone Co., Ltd.
Xiamen Terry Stone Co., Ltd | Heshan Biyu Stone Co., Ltd.
Xiamen Touch Stone Co., Ltd | One Stone Quartz Co., Ltd.
Xiamen Vatro Stone Imp. & Exp. Co., Ltd | Xiamen Vatro Stone Imp. & Exp. Co., Ltd.
Xiamen Vatro Stone Imp. & Exp. Co., Ltd | Shandong Whitley New Materials Co., Ltd.
Xiamen Vesen Imp. & Exp. Trade Co., Ltd | Nanan Xingli Stone Co., Ltd.
Xiamen Wanfu Trade Co., Ltd | Xiamen Wanfu Trade Co., Ltd.
Xiamen Wanfu Trade Co., Ltd | Thinking Industries Corporation.
Xiamen Wanfu Trade Co., Ltd | Yifeng Industries Corporation.
Xiamen Wanli Stone Decoration & Design Co., Ltd | Xiamen Wanlistone Stock Co., Ltd.
Xiamen Wanli Stone Decoration & Design Co., Ltd | Quanzhou Yifeng Co., Ltd.
Xiamen Wanli Stone Decoration & Design Co., Ltd | Nan'an Fengsheng Stone Co., Ltd.
Xiamen Wanli Stone Decoration & Design Co., Ltd | Thinking Industries Corporation Limited.
Xiamen Wanli Stone Decoration & Design Co., Ltd | One Stone Quartz Co., Ltd.
Xiamen Wanli Stone Decoration & Design Co., Ltd | Taking Luck (Xiamen) Granite & Marble Co., Ltd.
Xiamen Wanlistone Stock Co., Ltd | Xiamen Wanlistone Stock Co., Ltd.
Xiamen Winson Import and Export Co., Ltd | Xiamen Oulandi New Building Materail Co., Ltd.
Xiamen Yadonglong Imp & Exp. Co., Ltd | Quanzhou Yifeng Co., Ltd.
Xiamen Yadonglong Imp & Exp. Co., Ltd | Xiamen Orienti New Building Materials Ltd.
Xiamen Yadonglong Imp & Exp. Co., Ltd | Xinmingdu Building Materials (Xiamen) Co., Ltd.
Xiamen Yalitong Stone Industrial Co., Ltd | Fujian Nanan Xudong Building Materials Co., Ltd.
Xiamen Yalitong Stone Industrial Co., Ltd | Zhongci Wanjia Decoration Materials Co., Ltd.
Xiamen Yalitong Stone Industrial Co., Ltd | Quanzhou Yifeng Co., Ltd.
Xiamen Yeyang Import & Export Co., Ltd. (AKA Xiamen Yeyang Imp&Exp Co., Ltd.) | Fujian Nanan Yuanhong Construction Materails Co., Ltd.
Xiamen Yiqing Imp. & Exp. Co., Ltd | Fujian Nanan Yuanhong Construction Materails Co., Ltd.
Xiamen Zhongguanshi Stone Industry Co., Limited | Yunan Guanglai Stone Co., Ltd.
Xiamen Zhongguanshi Stone Industry Co., Limited | Foshan Devialef New Materials Co., Ltd.
Xiamen Zhongguanshi Stone Industry Co., Limited | Nan'an Guang Tai Xiang Stone Co., Ltd.
Xiamen Zhongguanshi Stone Industry Co., Limited | Wanfeng Compound Stone Technology.
Xiamen Zhongguanshi Stone Industry Co., Limited | Foshan Xinghe Quartz Stone Co., Ltd.
Xinyun Stone (Yunfu) Co., Ltd | Xinyun Stone (Yunfu) Co., Ltd.
Yekalon Industry Inc | Foshan Xinyixin Stone Company Limited.
Yunfu Andi Stone Co., Ltd | Yunfu Andi Stone Co., Ltd.
Yunfu Chuangyun New Meterail Co., Ltd | Yunfu Chuangyun New Meterail Co., Ltd.
Yunfu Dong Shan Stone Material Co., Ltd | Yunfu Dong Shan Stone Material Co., Ltd.
Yunfu Honghai Co., Ltd | Yunfu Honghai Co., Ltd.
Yunfu Jiuru Stone Ltd | Yunfu Jiuru Stone Ltd.
Yunfu Meiao Stone Co., Ltd | Yunfu Meiao Stone Co., Ltd.
Yunfu Wayon Stone Co., Ltd | Yunfu Wayon Stone Co., Ltd.
Yunfu Wayon Stone Co., Ltd | Guangdong Wayon Industrial Co., Ltd.
Yunfu Weibao Stone Co., Ltd | Yunfu Weibao Stone Co., Ltd.
Yunfu Weibao Stone Co., Ltd | Guangdong Wayon Industrial Co., Ltd.
Yunfu Wintop Stone Co., Ltd | Yunfu Wintop Stone Co., Ltd.
Yunfu Wintop Stone Co., Ltd | Guangdong Bosun Quartz Stone Co., Ltd.
Yunfu Wintop Stone Co., Ltd | Yunfu Runtai Stone Co., Ltd.
Yunfu Wintop Stone Co., Ltd | RongHuaFu Yunfu Stone Co., Ltd.
Zhangzhou OCA Furniture Co., Ltd | Fujian Panmin Co., Ltd.
Zhangzhou OCA Furniture Co., Ltd | Wanfu Building Materials Products Co., Ltd.
Zhaoqing Aibo New Material Technology Co., Ltd | Zhaoqing Aibo New Material Technology Co., Ltd.
Zhaoqing Aibo New Material Technology Co., Ltd | Shanghai Meiyang Stone Co., Ltd.
Zhaoqing Maxstone Co., Ltd | Zhaoqing Maxstone Co., Ltd.
Zhaoqing Uni Marble Co., Ltd | Vemy Quartz Co., Ltd.
Zhaoqing Uni Marble Co., Ltd | Guangdong Bosun Quartz Stone Co., Ltd.

[FR Doc. 2018-25299 Filed 11-19-18; 8:45 am]

BILLING CODE 3510-DS-P